DEPARTMENT OF ENERGY

Federal Energy Regulatory Commission

[Docket No. RM06-16-000]

Mandatory Reliability Standards for the Bulk-Power System; Notice of Filing

December 8, 2006.

On December 1, 2006, the North American Electric Reliability Council, on behalf of its affiliate, the North American Electric Reliability Corporation (collectively NERC), made an informational filing with the Commission entitled “NERC's Reliability Standards Development Plan: 2007-2009” (Work Plan).¹ NERC states that the Work Plan has been submitted to inform the Commission of NERC's program to improve the Reliability Standards that currently are the subject of the Commission's Notice of Proposed Rulemaking (NOPR) issued in this docket on October 20, 2006. NERC states that a portion of the Work Plan also fulfills the commitment made in its April 2006 ERO certification application to provide the Commission with a plan to address the “fill-in-the-blank” regional reliability standards. Finally, the informational filing contains a status report on the violation risk factors that NERC plans to assign to each requirement in NERC's Reliability Standards to help delineate the relative risks associated with the violation of each requirement of a Reliability Standard.

¹ The Commission certified NERC Corporation as the Electric Reliability Organization (ERO) pursuant to Section 215 of the Federal Power Act in an order issued July 20, 2006, in Docket No. RR06-1-000.

The Commission stated in its October 20, 2006 NOPR that it is important that the ERO develop a detailed, comprehensive work plan to address all of the modifications that are directed pursuant to a final rule issued in this docket. The Commission believes that the Work Plan could be useful for determining such prioritization and would therefore be informative for the final rule. The Commission also believes that industry comment on the Work Plan would assist in developing an appropriate prioritization plan.

The Commission therefore seeks public comment on the Work Plan, with comments due by the January 3, 2007 to coincide with the date for filing comments on the October 20, 2006 NOPR.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-21387 Filed 12-14-06; 8:45 am]

BILLING CODE 6717-01-P